DEPARTMENT OF THE TREASURY

Internal Revenue Service

26 CFR Part 1

[REG-108214-15]

RIN 1545-BM69

Exception From Passive Income for Certain Foreign Insurance Companies; Hearing; Correction

AGENCY: Internal Revenue Service (IRS), Treasury.

ACTION: Correction to a notice of a public hearing on a proposed rulemaking.

SUMMARY: This document corrects a notice of public hearing on proposed regulations that published in the Federal Register on Wednesday, August 19, 2015. The proposed regulations provide guidance regarding when a foreign insurance company's income is excluded from the definition of passive income under section 1297(b)(2)(B).

DATES: Outlines of topics to be discussed at the public hearing being held on Friday, September 18, 2015 (see the document published at 80 FR 50239, August 19, 2015), are still being accepted and must be received by August 26, 2015.

FOR FURTHER INFORMATION CONTACT: Concerning the proposed regulations, Josephine Firehock at (202) 317-4932; concerning submissions of comments, the hearing and/or to be placed on the building access list to attend the hearing Oluwafunmilayo Taylor at (202) 317-6901 (not toll-free numbers).

SUPPLEMENTARY INFORMATION:

Background

The notice of a public hearing on a proposed rulemaking that is the subject of this document is under section 1297(b)(2)(B) of the Internal Revenue Code.

Need for Correction

As published, the notice of a public hearing on a proposed rulemaking (REG-108214-15) contains an error that is misleading and is in need of clarification.

Correction to Publication

Accordingly, the notice of a public hearing on a proposed rulemaking, that is the subject of FR Doc. 2015-20468, is corrected as follows:

1. On page 50239, in the preamble, column 3, under the caption “SUPPLEMENTARY INFORMATION”, the last line of the first full paragraph, the language “topic by Wednesday, August 19, 2015” is corrected to read “topic by Wednesday, August 26, 2015”.

Martin V. Franks,
Chief, Publications and Regulations Branch, Legal Processing Division, Associate Chief Counsel (Procedure and Administration).

[FR Doc. 2015-20849 Filed 8-19-15; 4:15 pm]

BILLING CODE 4830-01-P